SURFACE TRANSPORTATION BOARD

[Docket No. FD 36132]

WRL, LLC—Change in Operator Exemption—Western Washington Railroad, LLC

WRL, LLC (WRL), a Class III rail carrier, has filed a verified notice of exemption under 49 CFR 1150.41 to assume operations over 34.6 miles of rail line (the Line) between milepost 33C north of Rainier, Thurston County, Wash., and milepost 67.6 south of Chehalis, Lewis County, Wash.

WRL states that Western Washington Railroad, LLC (WWRR) currently operates the Line pursuant to a lease.¹ WRL states that it acquired the Line from City of Tacoma, Department of Public Works d/b/a Tacoma Rail after WWRR began leasing the Line.²

¹ See W. Wash. R.R.—Lease & Operation Exemption—City of Tacoma, Dep't of Pub. Works, FD 35921 (STB served July 29, 2015).

² See WRL, LLC—Acquis. Exemption—City of Tacoma, Dep't of Pub. Works, FD 36074 (STB served Oct. 14, 2016).

WRL states that it has reached an agreement with WWRR for WRL to replace WWRR as the exclusive operator of the Line upon the effective date of the notice.

WRL states that the proposed change in operator does not involve any provision or agreement that would limit future interchange with a third-party connecting carrier. WRL certifies that its projected annual revenues as a result of this transaction will not result in the creation of a Class II or Class I rail carrier.

Under 49 CFR. 1150.42(b), a change in operator requires that notice be given to shippers. WRL certifies that it has provided notice of the proposed change in operator to all known shippers on the Line.

The earliest this transaction can be consummated is July 30, 2017, the effective date of the exemption.

If the verified notice contains false or misleading information, the exemption is void ab initio. Petitions to revoke the exemption under 49 U.S.C. 10502(d) may be filed at any time. The filing of a petition to revoke will not automatically stay the effectiveness of the exemption. Petitions for stay must be filed no later than July 21, 2017 (at least seven days before the exemption becomes effective).

An original and 10 copies of all pleadings, referring to Docket No. FD 36132, must be filed with the Surface Transportation Board, 395 E Street SW., Washington, DC 20423-0001. In addition, one copy of each pleading must be served on James H.M. Savage, 22 Rockingham Court, Germantown, MD 20874.

Board decisions and notices are available on our Web site at WWW.STB.GOV.

Decided: July 7, 2017.
By the Board, Scott M. Zimmerman, Acting Director, Office of Proceedings.
Rena Laws-Byrum,
Clearance Clerk.

[FR Doc. 2017-14645 Filed 7-13-17; 8:45 am]

BILLING CODE 4915-01-P